DEPARTMENT OF HEALTH AND HUMAN SERVICES

National Institutes of Health

National Institute on Drug Abuse; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Drug Abuse Special Emphasis Panel; Limited Competition Cohort Studies of HIV/AIDS and Substance Abuse (U01 Clinical Trial Not Allowed)

Date: October 1, 2019.

Time: 12:00 p.m. to 3:00 p.m.

Agenda: To review and evaluate cooperative agreement applications.

Place: National Institutes of Health, Neuroscience Center Building (NSC), 6001 Executive Boulevard, Rockville, MD 20852 (Telephone Conference Call).

Contact Person: Hiromi Ono, Ph.D., Scientific Review Officer, Office of Extramural Affairs, National Institute on Drug Abuse, National Institutes of Health, DHHS, 6001 Executive Boulevard, Room 4238, MSC 9550 Bethesda, MD 20892, 301-402-6020, hiromi.ono@nih.gov.

Name of Committee: National Institute on Drug Abuse Special Emphasis Panel; (T32) Ruth L. Kirschstein National Research Service Award (NRSA) Institutional Research Training Grants.

Date: November 6-7, 2019.

Time: 8:00 a.m. to 5:00 p.m.

Agenda: To review and evaluate grant applications.

Place: National Institutes of Health, Neuroscience Center Building (NSC), 6001 Executive Boulevard, Rockville, MD 20852.

Contact Person: Susan O McGuire, Ph.D., Scientific Review Officer, Office of Extramural Affairs, National Institute on Drug Abuse, National Institutes of Health, DHHS, 6001 Executive Blvd., Room 4245, Rockville, MD 20852, 301-435-1426, mcguireso@mail.nih.gov.

Name of Committee: National Institute on Drug Abuse Special Emphasis Panel; Limited Competition for Adolescent Brain Cognitive Development (ABCD) Study—Linked Research Project Sites (Collaborative U01 Clinical Trial Not Allowed).

Date: November 8, 2019.

Time: 8:00 a.m. to 7:00 p.m.

Agenda: To review and evaluate cooperative agreement applications.

Place: Cambria Hotel Rockville, 1 Helen Heneghan Way, Rockville, MD 20850.

Contact Person: Yvonne Owens Ferguson, Ph.D., Scientific Review Officer, Office of Extramural Policy and Review, Division of Extramural Research, National Institute on Drug Abuse, NIH/DHHS, 6001 Executive Blvd., Rm. 4234, Bethesda, MD 20892, 301-402-7371, yvonne.ferguson@nih.gov.

Name of Committee: National Institute on Drug Abuse Special Emphasis Panel; Limited Competition for Adolescent Brain Cognitive Development (ABCD) Study—Data Analysis, Informatics and Resource Center & Coordinating Center (U24 Clinical Trial Not Allowed).

Date: November 8, 2019.

Time: 8:00 a.m. to 7:00 p.m.

Agenda: To review and evaluate cooperative agreement applications.

Place: Cambria Hotel Rockville, 1 Helen Heneghan Way, Rockville, MD 20850.

Contact Person: Yvonne Owens Ferguson, Ph.D., Scientific Review Officer, Office of Extramural Policy and Review, Division of Extramural Research, National Institute on Drug Abuse, NIH/DHHS, 6001 Executive Blvd., Rm. 4234, Bethesda, MD 20892, 301-402-7371, yvonne.ferguson@nih.gov.

(Catalogue of Federal Domestic Assistance Program Nos. 93.279, Drug Abuse and Addiction Research Programs, National Institutes of Health, HHS)

Dated: September 11, 2019.
Tyeshia M. Roberson,
Program Analyst, Office of Federal Advisory Committee Policy.

[FR Doc. 2019-20050 Filed 9-16-19; 8:45 am]

BILLING CODE 4140-01-P